DEPARTMENT OF LABOR

Employment and Training Administration

[TA-W-60,390]

Everett Charles Technologies, a Subsidiary of Dover Corporation, FSG San Jose, San Jose, CA; Notice of Termination of Investigation

Pursuant to Section 221 of the Trade Act of 1974, as amended, an investigation was initiated on November 14 2006 in response to a petition filed on behalf of workers at Everett Charles Technologies, a subsidiary of Dover Corporation, FSG San Jose, San Jose, California.

The petition regarding the investigation has been deemed invalid. One of the petitioners was separated over a year prior to the date of the petition. A petition filed by workers requires three (3) valid signatures. Consequently, the investigation under this petition has been terminated.

Signed at Washington, DC this 15th day of December 2006.
Linda G. Poole,
Certifying Officer, Division of Trade Adjustment Assistance.

[FR Doc. E6-22132 Filed 12-26-06; 8:45 am]

BILLING CODE 4510-30-P